DEPARTMENT OF DEFENSE

Department of the Army; Army Corps of Engineers

Intent To Prepare a Joint Environmental Impact Statement/Environmental Impact Report for the River Mile 208, Sacramento River Bank Protection Project, CA

AGENCY: Department of the Army, U.S. Army Corps of Engineers, DOD.

ACTION: Notice of intent.

SUMMARY: The U.S. Army Corps of Engineers, Sacramento District, intends to prepare a joint environmental impact statement/environmental impact report (EIS/EIR) for the construction of bank protection at River Mile 208 on the Sacramento River to prevent continued bank erosion and potential outflanking of the Glenn-Colusa Irrigation District Hamilton City Pumping Plant (HCPP), near Hamilton City, CA. The proposed action is being conducted under the HCPP Fish Screen Improvement Project.

DATES: A public scoping meeting is being held on Thursday, January 29, 2009, 7 to 9 pm at the Hamilton City High School (620 Canal Street, Hamilton City). Send written comments by February 16, 2009 to (see ADDRESSES).

ADDRESSES: Written comments and suggestions concerning this project may be submitted to Mr. Matt Davis, U.S. Army Corps of Engineers, Sacramento District, Attn: CESPK-PD-R, 1325 J Street, Sacramento, CA 95814-2922. Requests to be placed on the mailing list should also be sent to this address.

FOR FURTHER INFORMATION CONTACT: Questions about the proposed action and EIS/EIR should be addressed to the Corps: Matt Davis at (916) 557-6708, by e-mail Matthew.G.Davis@usace.army.mil, by fax (916) 557-7856; or to GCID: William Menke at (530) 934-8881, by e-mail bmenke@gcid.net.

SUPPLEMENTARY INFORMATION: The U.S. Army Corps of Engineers, Sacramento District (Corps) is the federal lead agency for compliance with the National Environmental Policy Act (NEPA) for the Proposed Action. The Glenn-Colusa Irrigation District (GCID) is the state lead agency for compliance with the California Environmental Quality Act (CEQA) for the Proposed Action.

1. Proposed Action. The Corps and GCID are preparing an EIS/EIR to analyze the impacts of constructing bank protection on the east bank of the Sacramento River at River Mile 208. The purpose of the proposed bank protection work is to prevent continued bank erosion and potential outflanking of GCID's Hamilton City Pumping Plant (HCPP). Maintaining the river's alignment upstream of the HCPP is important for the continued functioning of the pumping plant. The HCPP Fish Screen Improvement Project was constructed in 2000 to minimize losses of all fish from operation of the HCPP and to restore GCID's capability to divert the full quantity of water it is entitled to divert to meet its water supply delivery obligations. GCID supplies water to 140,000 acres of farmland, over 20,000 acres of federal wildlife refuge, and 40,000 acres of other lands and wetlands from diversions at the HCPP.

2. Alternatives. The EIS/EIR will address the No Action alternative and four action alternatives including three different types of bank protection alternatives and a levee setback alternative. The three types of bank protection alternatives differ from one another in the amount and extent of rock protection placed and the environmental features (e.g., vegetation and instream woody material) incorporated in the design.

3. Scoping Process.

a. A public scoping meeting will be held on Thursday, January 29, 2009 to present information to the public and to receive comments from the public. The meeting is intended to initiate the process to involve concerned individuals, and local, State, and Federal agencies.

b. Significant issues to be analyzed in depth in the EIS/EIR include effects on hydraulics, wetlands and other waters of the U.S., river meander, vegetation and wildlife resources, special-status species, aesthetics, cultural resources, recreation, land use, fisheries, water quality, air quality, noise, transportation, visual resources, and socioeconomics; and cumulative effects of related projects in the study area.

c. The Corps will consult with the State Historic Preservation Officer to comply with the National Historic Preservation Act and the U.S. Fish and Wildlife Service and National Marine Fisheries Service to comply with the Endangered Species Act. The Corps is also coordinating with the U.S. Fish and Wildlife Service to comply with the Fish and Wildlife Coordination Act.

d. A 45-day public review period will be provided for individuals and agencies to review and comment on the draft EIS/EIR. All interested parties are encouraged to respond to this notice and provide a current address if they wish to be notified of the draft EIS/EIR circulation.

4. Availability. The draft EIS/EIR is scheduled to be available for public review and comment in November 2009.

Dated: December 23, 2008.
Thomas C. Chapman,
Colonel, Corps of Engineers, District Engineer.

[FR Doc. E9-584 Filed 1-13-09; 8:45 am]

BILLING CODE 3720-58-P